SMALL BUSINESS ADMINISTRATION

Audit and Financial Management Advisory (AFMAC) Committee Meeting

The U.S. Small Business Administration Audit and Financial Management Advisory Committee (AFMAC) will host a public meeting on Thursday, March 16, 2006. The meeting will take place at the U.S. Small Business Administration, 409 3rd Street, SW., Office of the Chief Financial Officer Conference Room, 6th Floor, Washington, DC 20416. The AFMAC was established by the Administrator of the SBA to provide recommendation and advice regarding the Agency's financial management, including the financial reporting process, systems of internal controls, audit process and process for monitoring compliance with relevant laws and regulations.

Anyone wishing to attend must contact Jennifer Main in writing or by fax. Jennifer Main, Chief Financial Officer, 409 3rd Street, SW., Washington, DC 20416, phone (202) 205-6449; fax (202) 205-6969; Jennifer.Main@sba.gov.

Matthew K. Becker,
Committee Management Officer.

[FR Doc. E6-3108 Filed 3-3-06; 8:45 am]

BILLING CODE 8025-01-P